DEPARTMENT OF STATE

[Public Notice 6480]

In the Matter of the Review of the Designation of Mujahedin-e Khalq Organization (MEK), and All Designated Aliases, as a Foreign Terrorist Organization Upon Petition Filed Pursuant to Section 219 of the Immigration and Nationality Act, as Amended

The MEK filed a petition for revocation of its designation as a foreign terrorist organization (the “Petition”). Based upon a review of the Administrative Record assembled in this matter, including the Petition and associated filings by the MEK, pursuant to Section 219(a)(4)(B) of the Immigration and Nationality Act, as amended (8 U.S.C. 1189(a)(4)(B)) (“INA”), and in consultation with the Attorney General and the Secretary of the Treasury, I conclude that the circumstances that were the basis for the 2003 re-designation of the aforementioned organization as a foreign terrorist organization have not changed in such a manner as to warrant revocation of the designation and that the national security of the United States does not warrant a revocation.

Therefore, I hereby determine that the designation of the aforementioned organization as a foreign terrorist organization, pursuant to Section 219 of the INA (8 U.S.C. 1189), shall be maintained.

This determination shall be published in the Federal Register.

Dated: January 7, 2009.
Condoleezza Rice,
Secretary of State, Department of State.

[FR Doc. E9-474 Filed 1-9-09; 8:45 am]

BILLING CODE 4710-10-P